DEPARTMENT OF STATE

[Public Notice 4400]

Determination Related to Colombian Armed Forces Under Section 564(a)(1) of Foreign Operations, Export Financing, and Related Programs Appropriations Act, Division E, Consolidated Appropriations Resolution, 2003 (Pub. L. 108-7)

Pursuant to the authority vested in me as Secretary of State, including under section 564 of the Foreign Operations, Export Financing, and Related Programs Appropriations Act, Division E, Consolidated Appropriations Resolution, 2003 (Pub. L. 108-7) (the “FOAA”), I hereby determine and certify that: (A) The Commander General of the Colombian Armed Forces is suspending from the Armed Forces those members, of whatever rank, who have been credibly alleged to have committed gross violations of human rights, including extra-judicial killings, or to have aided or abetted paramilitary organizations; (B) The Colombian Government is prosecuting those members of the Colombian Armed Forces, of whatever rank, who have been credibly alleged to have committed gross violations of human rights, including extra-judicial killings, or to have aided or abetted paramilitary organizations, and is punishing those members of the Colombian Armed Forces found to have committed such violations of human rights or to have aided or abetted paramilitary organizations; (C) The Colombian Armed Forces are cooperating with civilian prosecutors and judicial authorities in such cases (including providing requested information, such as the identity of the persons suspended from the Armed Forces and the nature and cause of the suspension, and access to witnesses and relevant military documents and other information); (D) The Colombian Armed Forces are severing links (including denying access to military intelligence, vehicles, and other equipment or supplies, and ceasing other forms of active or tacit cooperation), at the command, battalion, and brigade levels, with paramilitary organizations; (E) The Colombian Armed Forces are executing orders for capture of leaders of paramilitary organizations that continue armed conflict.

The Department of State has consulted with internationally recognized human rights organizations regarding the Colombian Armed Forces' progress in meeting the conditions contained in section 564(a)(2).

This Determination shall be published in the Federal Register and copies shall be transmitted to the appropriate Committees of Congress.

Dated: July 7, 2003.
Colin L. Powell,
Secretary of State, Department of State.

[FR Doc. 03-17782 Filed 7-11-03; 8:45 am]

BILLING CODE 4710-10-P